DEPARTMENT OF COMMERCE

International Trade Administration

[Application No. 11-1A001]

Export Trade Certificate of Review

ACTION: Notice of Application for an Amended Export Trade Certificate of Review by Latin American Multichannel Advertising Council, Inc. (“LAMAC”), Application No. 11-1A001.

SUMMARY: The Office of Trade and Economic Analysis (“OTEA”) of the International Trade Administration, Department of Commerce, has received an application for an amended Export Trade Certificate of Review (“Certificate”). This notice summarizes the proposed amendment and requests comments relevant to whether the amended Certificate should be issued.

FOR FURTHER INFORMATION CONTACT: Joseph Flynn, Director, Office of Trade and Economic Analysis, International Trade Administration, by telephone at (202) 482-5131 (this is not a toll-free number) or email at etca@trade.gov.

SUPPLEMENTARY INFORMATION: Title III of the Export Trading Company Act of 1982 (15 U.S.C. Sections 4001-21) (“the Act”) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325. OTEA is issuing this notice pursuant to 15 CFR 325.6(a), which requires the Secretary of Commerce to publish a summary of the application in the Federal Register, identifying the applicant and each member and summarizing the proposed export conduct.

Request for Public Comments

Interested parties may submit written comments relevant to the determination whether an amended Certificate should be issued. If the comments include any privileged or confidential business information, it must be clearly marked and a nonconfidential version of the comments (identified as such) should be included. Any comments not marked as privileged or confidential business information will be deemed to be nonconfidential.

An original and five (5) copies, plus two (2) copies of the nonconfidential version, should be submitted no later than 20 days after the date of this notice to: Office of Trade and Economic Analysis, International Trade Administration, U.S. Department of Commerce, Room 21028, Washington, DC 20230.

Information submitted by any person is exempt from disclosure under the Freedom of Information Act (5 U.S.C. 552). However, nonconfidential versions of the comments will be made available to the applicant if necessary for determining whether or not to issue the amended Certificate. Comments should refer to this application as “Export Trade Certificate of Review, application number 11-1A001.”

A summary of the application follows.

Summary of the Application

Applicant: LAMAC.

Contact: Ronald Oleynik, Outside Counsel (202) 457-7183.

Application No.: 11-1A001.

Date Deemed Submitted: October 3, 2019.

Proposed Amendment: LAMAC seeks to amend its Certificate as follows:

1. Add the following companies as new Members of the Certificate within the meaning of section 325.2(l) of the Regulations (15 CFR 325.2(l)):

• NBCUniversal Networks International Spanish Latin America, LLC

• MTV Networks Latin America Inc.

• AMC Networks Latin America LLC

• Lifetime Latin America, LLC

2. Delete the following companies as Members of the Certificate:

• E! Entertainment Television Latin America Partners, L.P.

3. Change the name of the following Members of the Certificate:

• From NGC Networks Latin America, LLC to NGC Network Latin America, LLC

• From Turner Broadcasting System Latin America, Inc. to Turner International Latin America, Inc.

• From History Channel Latin America, LLC to The History Channel Latin America, LLC

• From Fox Latin American Channel, Inc. to Fox Latin American Channel LLC

LAMAC's proposed amendment of its Certificate would result in the following Membership list:

1. Discovery Latin America, LLC

2. Fox Latin American Channel LLC

3. NGC Network Latin America, LLC

4. Turner International Latin America, Inc.

5. A&E Mundo, LLC

6. The History Channel Latin America, LLC

7. NBCUniversal Networks International Spanish Latin America, LLC

8. MTV Networks Latin America Inc.

9. AMC Networks Latin America LLC

10. Lifetime Latin America, LLC

Dated: October 15, 2019.
Joseph Flynn,
Director, Office of Trade and Economic Analysis, International Trade Administration, U.S. Department of Commerce.

[FR Doc. 2019-22827 Filed 10-18-19; 8:45 am]

BILLING CODE 3510-DR-P